DEPARTMENT OF THE INTERIOR

Bureau of Reclamation

Notice of Availability of the Aspinall Unit Operations Final Environmental Impact Statement, Wayne N. Aspinall Unit, Colorado River Storage Project, Gunnison River, Colorado

AGENCY: Bureau of Reclamation, Interior.

ACTION: Notice of availability.

FES 12-01

SUMMARY: The Bureau of Reclamation (Reclamation), the Federal agency responsible for operation of the Aspinall Unit, announces the availability of the final environmental impact statement (FEIS) on proposed Aspinall Unit operations, Gunnison and Montrose Counties, Colorado.

DATES: Reclamation will not make a decision on the proposed action until at least 30 days after release of the FEIS. After the 30-day public review period, Reclamation will complete a Record of Decision (ROD). The ROD will state the action that will be implemented and discuss all factors leading to that decision.

ADDRESSES: The FEIS is available for review at http://www.usbr.gov/uc/ (click on Environmental Documents). Send requests for paper copies or compact discs to Mr. Steve McCall, Bureau of Reclamation, Western Colorado Area Office, 2764 Compass Drive, Suite 106, Grand Junction, Colorado 81506. See the SUPPLEMENTARY INFORMATION section for locations where copies are available for public review and inspection.

FOR FURTHER INFORMATION CONTACT: Mr. Steve McCall, telephone (970) 248-0638; facsimile (970) 248-0601; email smccall@usbr.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Pursuant to the National Environmental Policy Act of 1969 (as amended) and the Colorado River Storage Project Act of 1956, Reclamation, in cooperation with the State of Colorado, Colorado River Water Conservation District, Southwestern Water Conservation District, National Park Service, Platte River Power Authority, U.S. Fish and Wildlife Service, and Western Area Power Administration, has prepared a FEIS on Aspinall Unit operations. The Aspinall Unit consists of Blue Mesa, Morrow Point, and Crystal dams, reservoirs, and powerplants on the Gunnison River in western Colorado. The FEIS describes the potential effects of modifying the operation of the Aspinall Unit to provide sufficient releases of water at times and duration necessary to avoid jeopardy to endangered fish species and adverse modification of their designated critical habitat while maintaining and continuing to meet all authorized purposes of the Aspinall Unit. The intent of the new operations is to also assist in recovery of the species.

The programmatic biological opinion (PBO) prepared by the U.S. Fish and Wildlife Service in conjunction with the FEIS completes Endangered Species Act (ESA) compliance for the Aspinall Unit and provides ESA coverage for other Federal projects and private water uses in the Gunnison Basin. The PBO also completes ESA compliance for the Dolores Project.

Consultation was held with the U.S. Fish and Wildlife Service and other cooperating agencies to develop alternatives that better met peak, duration, and base flow recommendations for the endangered fish. In the FEIS, a no action alternative and four action alternatives were analyzed. The preferred alternative provides operational guidance for the Aspinall Unit for specific downstream spring peak and duration flows that are dependent on forecasted inflow to the Aspinall Unit reservoirs. It also provides base flows outside of the spring runoff period.

The Aspinall Unit Draft Environmental Impact Statement (DEIS) was issued to the public on February 13, 2009, and a Notice of Availability of the DEIS was published in the Federal Register on February 13, 2009 (74 FR 7260). A 70-day public review and comment period for the DEIS ended on April 24, 2009. During the public comment period, two public hearings were held. The FEIS contains responses to all comments received on the DEIS.

Copies of the FEIS are available for public review and inspection at the following locations:

• Main Interior Building, Natural Resources Library, Room 1151, 1849 C Street, NW., Washington, DC 20240-0001.

• Bureau of Reclamation, Denver Office Library, Denver Federal Center, Sixth and Kipling, Building 67, Room 167, Denver, Colorado 80225-0007.

• Bureau of Reclamation, Upper Colorado Regional Office, 125 South State Street, Room 7418, Salt Lake City, Utah 84138-1147.

• Bureau of Reclamation, Western Colorado Area Office, 2764 Compass Drive, Suite 106, Grand Junction, Colorado 81506.

Libraries

• Western State College Library, 600 N. Adams Street, Gunnison, Colorado 81231.

• Montrose Public Library, 320 South 2nd Street, Montrose, Colorado 81401.

• Delta Public Library, 211 West 6th Street, Delta, Colorado 81416-0052.

• Mesa County Public Library, 443 North 6th Street, Grand Junction, Colorado 81501.

• Colorado Mesa University Library, 1100 North Avenue, Grand Junction, Colorado 81501.

Public Disclosure

Before including a name, address, telephone number, email address, or other personal identifying information in the comment, please be advised that the entire comment—including personal identifying information—may be made publicly available at any time. While a commenter may request that Reclamation withhold personal identifying information from public review, Reclamation cannot guarantee that they will be able to do so.

Dated: January 20, 2012.
Larry Walkoviak,
Regional Director—Upper Colorado Region, Bureau of Reclamation.

[FR Doc. 2012-4558 Filed 2-24-12; 8:45 am]

BILLING CODE 4310-MN-P